DEPARTMENT OF HEALTH AND HUMAN SERVICES

National Institutes of Health

Office of the Director, National Institutes of Health; Notice of Meeting

Pursuant to section 10(a) of the Federal Advisory Committee Act, as amended (5 U.S.C. App.), notice is hereby given of a meeting of the Scientific Management Review Board.

The NIH Reform Act of 2006 (Pub. L. 109-482) provides organizational authorities to HHS and NIH officials to: (1) Establish or abolish national research institutes; (2) reorganize the offices within the Office of the Director, NIH including adding, removing, or transferring the functions of such offices or establishing or terminating such offices; and (3) reorganize, divisions, centers, or other administrative units within an NIH national research institute or national center including adding, removing, or transferring the functions of such units, or establishing or terminating such units. The purpose of the Scientific Management Review Board (also referred to as SMRB or Board) is to advise appropriate HHS and NIH officials on the use of these organizational authorities and identify the reasons underlying the recommendations.

The meeting will be open to the public through teleconference at the number listed below.

Name of Committee: Scientific Management Review Board.

Date: September 18, 2013.

Time: 11:00 a.m. to 12:30 p.m.

Agenda: This meeting will focus on the deliberations and preliminary findings of the SMRB's Value of Biomedical Research Working Group. Further information regarding this meeting, including the agenda, will be available at http://smrb.od.nih.gov. Time will be allotted on the agenda for public comment. To sign up for public comment, please submit your name and affiliation to the Contact Person listed below by September 17, 2013. Sign up will be restricted to one sign up per email. In the event that time does not allow for all those interested to present oral comments, anyone may file written comments with the committee through the Contact Person listed below. The statement should include the name, address, telephone number, and when applicable, the business or professional affiliation of the interested person.

The toll-free number to participate in the teleconference is 800-369-1872. Indicate to the conference operator that your Participant pass code is “SMRB.” The draft meeting agenda, meeting materials, and other information about the SMRB, will be available at http://smrb.od.nih.gov.

Place: National Institutes of Health, Office of the Director, NIH, Office of Science Policy, 6705 Rockledge Drive, Suite 750, Bethesda, MD 20892, (Telephone Conference Call).

Contact Person: Juanita Marner, Office of Science Policy, Office of the Director, NIH, National Institutes of Health, 6705 Rockledge Drive, Suite 750, Bethesda, MD 20892, smrb@mail.nih.gov, (301) 435-1770.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: August 19, 2013.
Melanie J. Gray,
Program Analyst, Office of Federal Advisory Committee Policy.

[FR Doc. 2013-20561 Filed 8-22-13; 8:45 am]

BILLING CODE 4140-01-P